DEPARTMENT OF ENERGY

Federal Energy Regulatory Commission

[Project No. 10853-027, 10853-030]

Otter Tail Power Company; Notice of Effectiveness of Withdrawal of Temporary Variance Request and Application for Amendment of License

On May 3, 2022, Otter Tail Power Company (licensee) filed a temporary variance request and on December 2, 2022, the licensee filed an application for non-capacity amendment of the license for the 3.238-megawatt Otter Tail River Hydroelectric Project No. 10853. On August 14, 2024, the licensee filed a notice of withdrawal of the temporary variance and amendment application. The project is located on the Otter Tail River in Otter Tail County, Minnesota.

No motion in opposition to the notice of withdrawal has been filed, and the Commission has taken no action to disallow the withdrawal. Pursuant to Rule 216(b) of the Commission's Rules of Practice and Procedure,¹ the withdrawal of the application became effective on August 29, 2024, and this proceeding is hereby terminated.

¹ 18 CFR 385.216(b) (2023).

Dated: August 30, 2024.
Debbie-Anne A. Reese,
Acting Secretary.

[FR Doc. 2024-20146 Filed 9-5-24; 8:45 am]

BILLING CODE 6717-01-P